OFFICE OF PERSONNEL MANAGEMENT

[OMB Control No. 3206-0197; Forms RI 38-107 and RI 38-147]

Submission for OMB Review; Request for Review of a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. “Verification of Who is Getting Payments” (OMB Control No. 3206-0197; Form RI 38-107) is designed for use by the Retirement Inspection Branch when OPM, for any reason, must verify that the entitled person is indeed receiving the monies payable. “Verification of Who is Getting Payments” (OMB Control No. 3206-0197; Form RI 38-147) collects the same information and is used by other groups within Retirement Services Program. Failure to collect this information would cause OPM to pay monies absent the assurance of a correct payee.

The number of respondents to RI 38-107 is 25,000. The number of respondents to RI 38-147 is 400. We estimate it takes approximately 10 minutes to complete each form. The annual burden for RI 38-107 is 4,167 hours; the annual burden for RI 38-147 is 67 hours. The total burden is 4,234 hours.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

James K. Freiert, Deputy Assistant Director, Retirement Services Program, Center for Retirement and Insurance Services, U.S. Office of Personnel Management, 1900 E Street, NW., Room 3305, Washington, DC 20415-3500; and

OPM Desk Officer, Office of Information & Regulatory Affairs, Office of Management and Budget, New Executive Office Building, 725 17th Street, NW., Room 10235, Washington, DC 20503.

For information regarding administrative coordination contact: Cyrus S. Benson, Team Leader, Publications Team, RIS Support Services/Support Group, U.S. Office of Personnel Management, 1900 E Street, NW., Room 4H28, Washington, DC 20415, (202) 606-0623.

U.S. Office of Personnel Management.
John Berry,
Director.

[FR Doc. E9-15020 Filed 6-24-09; 8:45 am]

BILLING CODE 6325-38-P